DEPARTMENT OF LABOR

Employment and Training Administration

[NAFTA-5866]

Exide Technologies Transportation Business Group Florence, MS; Notice of Negative Determination Regarding Application for Reconsideration

By application dated May 13, 2002, the company requested administrative reconsideration of the Department's negative determination regarding eligibility to apply for North American Free Trade Agreement-Transitional Adjustment Assistance (NAFTA-TAA), applicable to workers and former workers of the subject firm. The denial notice was signed on April 11, 2002, and was published in the Federal Register on April 24, 2002 (67 FR 20167).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The denial of NAFTA-TAA for workers engaged in activities related to the production of SLI batteries at Exide Technologies, Transportation Business Group, Florence was based on the finding that criteria (3) and (4) of the group eligibility requirements of paragraph (a)(1) of section 250 of the Trade Act, as amended, were not met. There were no company imports of SLI batteries from Mexico or Canada, nor did the subject firm shift production from Florence, Mississippi to Mexico or Canada. The survey conducted by the Department of Labor revealed no increase in customer purchases of SLI batteries from Canada or Mexico during the period.

The petitioner alleges that a major competitor is expanding their production facility in Mexico.

The expansion of a major competitor's Mexican facility producing SLI batteries is not relevant to meeting the eligibility requirements for adjustment assistance under section 250(a) of the Trade Act of 1974, as amended.

The petitioner is further concerned that the customers are not buying the batteries directly from the Mexican facility, but purchasing the imported Mexican batteries from domestic sources and thus the Mexican imports may not show up in the Department of Labor's investigation.

The Department of Labor (DOL) survey tests for imported products that are purchased from domestic sources that are like or directly competitive with what the subject plant produces during the relevant period. The DOL survey revealed that none of customers increased their purchases of imported batteries from Canada or Mexico or other domestic sources that may be importing from Canada or Mexico during the relevant period.

On June 5, 2002 the company contacted the Labor Department stating that other Exide Technologies facilities were certified eligible for NAFTA-TAA and that the customer bases of those facilities were similar to subject plant's customer base. Therefore, the company believes that the subject plant should also be certified eligible for NAFTA-TAA based on those certifications.

Examination of previous company wide NAFTA-TAA certifications show that those facilities were certified eligible for NAFTA-TAA based on a major customer increasing their imports of batteries from Mexico during the relevant time period. The subject plant did not sell batteries to that major customer during the relevant time period.

Conclusion

After review of the application and investigative findings, I conclude that there has been no error or misinterpretation of the law or of the facts which would justify reconsideration of the Department of Labor's prior decision. Accordingly, the application is denied.

Signed at Washington, DC, this 14th day of June 2002.
Edward A. Tomchick,
Director, Division of Trade Adjustment Assistance.

[FR Doc. 02-18425 Filed 7-19-02; 8:45 am]

BILLING CODE 4510-30-P